Title 3—

The President

Proclamation 8292

Family Day, 2008

By the President of the United States of America

A Proclamation

Strong families are essential to the well-being of our Nation. On Family Day, we celebrate the relationship between parents and their children, and we recognize the importance of families spending time together.

As a source of hope, guidance, stability, and love for every generation, families both teach and exemplify the values and virtues needed in today's changing world. As parents and as role models to America's children, we can help prepare our children for a bright future by offering steadfast support and unconditional love.

The character of a child is formed in his or her earliest years by the love and guidance of family members and other caring individuals. Since 2001, my Administration has worked to strengthen the American family, and we have worked with faith-based and community organizations to promote healthy marriages and responsible fatherhood. By striving to ensure that children remain connected to their families, communities, places of worship, and schools, we are helping them make good choices and build lives of purpose.

Parents are the primary teachers of our Nation's youth, and they are the first ones to educate them about the differences between right and wrong. By being proactive and involved in a child's life, families pass along the traditions and principles that help make America a compassionate, decent, and hopeful society.

NOW, THEREFORE, I, GEORGE W. BUSH, President of the United States of America, by virtue of the authority vested in me by the Constitution and laws of the United States, do hereby proclaim September 22, 2008, as Family Day. I call upon the people of the United States to observe this day by engaging in activities that strengthen the bonds between children and parents.

IN WITNESS WHEREOF, I have hereunto set my hand this nineteenth day of September, in the year of our Lord two thousand eight, and of the Independence of the United States of America the two hundred and thirty-third.

[FR Doc. E8-22511

Filed 9-22-08; 11:15 am]

Billing code 3195-01-P